DEPARTMENT OF HOMELAND SECURITY

Coast Guard

33 CFR Part 147

[Docket Number USCG-2023-0073]

RIN 1625-AA00

Safety Zone; South Fork Wind Farm Project Area, Outer Continental Shelf, Lease OCS-A 0517, Offshore Rhode Island, Atlantic Ocean; Corrections

AGENCY: Coast Guard, Department of Homeland Security (DHS).

ACTION: Notice of proposed rulemaking; corrections.

SUMMARY: On March 6, 2023, the Coast Guard published a notice of proposed rulemaking (NPRM) to establish 13 temporary 500-meter safety zones in the South Fork Wind Farm project area. That proposed rule contained four labeling plot location errors and one error of the coordinates describing a labeling plot location. This document corrects those errors in the NPRM.

DATES: Comments to the NPRM published at 88 FR 13745 on March 6, 2023, and related material must be received by the Coast Guard on or before April 5, 2023. This correction will not cause any delay of the originally established comment period for the NPRM.

FOR FURTHER INFORMATION CONTACT: If you have questions about the proposed rulemaking, call or email Mr. Craig Lapiejko, Waterways Management, at Coast Guard First District, telephone 617-223-8351, email craig.d.lapiejko@uscg.mil.

SUPPLEMENTARY INFORMATION: On March 6, 2023, the Coast Guard published a NPRM titled “Safety Zone; South Fork Wind Farm Project Area, Outer Continental Shelf, Lease OCS-A 0517, Offshore Rhode Island, Atlantic Ocean” (88 FR 13745). In this NPRM we discussed a proposal to establish 13 safety zones to ensure the safety of life, property, and the environment within a 500-meter radius of each of the 13 facilities during their construction. Four of the names for labeling plot locations in addition to the coordinates of one labeling plot location were discovered to be erroneous and require correction.

The positions of each individual safety zone in our proposed rule were referred to using a unique alpha-numeric naming convention outlined in the “Rhode Island and Massachusetts Structure Labeling Plot (West)”.¹ This document corrects both tables and a chartlet discussed in our proposed rule by correcting the four labeling plot location errors with replacing AN07, AM09, AN10, and AP10 with AM05, AN05, AP05, and AN08, and correcting the coordinates describing AN06.

¹ The Rhode Island and Massachusetts Structure Labeling Plot (West) is an attachment to the Conditions of Construction and Operations Plan Approval Lease Number OCS-A 0517 (boem.gov) and can be found at https://www.boem.gov/sites/default/files/documents/renewable-energy/state-activities/SFWF-COP-Terms-and-Conditions.pdf.

In accordance with 33 CFR 147.15, the proposed safety zones would include the area within 500-meters of the center point of the positions provided in the corrected table expressed in Decimal Degrees based on North American Datum 1983 (NAD 83).

The corrected chartlet showing positions of each proposed safety zone using unique alpha-numeric naming convention is also set out.

Corrections

1. On page 13746, the table is corrected to read as follows:

Name | Facility type | Latitude | Longitude
AM05 | WTG | N 41.10879493 | W −71.19110374
AM06 | WTG | N 41.10921219 | W −71.16906236
AM07 | WTG | N 41.10962524 | W −71.14702052
AM08 | WTG | N 41.11003408 | W −71.12497822
AN05 | WTG | N 41.09212418 | W −71.19054951
AN06 | WTG | N 41.09195639 | W −71.16788437
AN08 | WTG | N 41.09336261 | W −71.12444068
AN09 | WTG | N 41.093767 | W −71.1024035
AP05 | WTG | N 41.07545338 | W −71.18999573
AP06 | OSS | N 41.07587016 | W −71.16796548
AP07 | WTG | N 41.07628273 | W −71.14593476
AP08 | WTG | N 41.07669109 | W −71.12390359
AP09 | WTG | N 41.07709524 | W −71.10187197

2. On page 13748, the chartlet is corrected to read as follows:

This document is published under the authority of 5 U.S.C. 552(a).

Dated: March 13, 2023.
J.W. Mauger,
Rear Admiral, U.S. Coast Guard, Commander, First Coast Guard District.

[FR Doc. 2023-05380 Filed 3-14-23; 8:45 am]

BILLING CODE 9110-04-P